DEPARTMENT OF DEFENSE

Department of the Air Force

Intent To Grant an Exclusive Patent License

Summary: Pursuant to the provisions of Part 404 of Title 37, Code of Federal Regulations, which implements Public Law 96-517, as amended; the Department of the Air Force announces its intention to grant PS Engineering, Inc., a corporation of the State of Tennessee, having a place of business at 9800 Martel Road Lenoir City, Tennessee, an exclusive license limited to the field of aviation in any right, title and interest the Air Force has in:

U.S. Patent No. 7,391,877, issued 24 June 2008, entitled “Spatial Processor for Enhanced Performance in Multi-Talker Speech Displays,” by Douglas S. Brungart.

The Air Force intends to grant a license for the patent unless a written objection is received within fifteen (15) days from the date of publication of this Notice. Written objection should be sent to: Air Force Materiel Command Law Office, AFMCLO/JAZ, 2240 B Street Rm D-14, Wright-Patterson AFB, OH 45433-7109; Facsimile: (937) 255-3733.

Bao-Anh Trinh,
DAF, Air Force Federal Register Liaison Officer.

[FR Doc. 2012-8906 Filed 4-12-12; 8:45 am]

BILLING CODE 5001-10-P